DEPARTMENT OF THE INTERIOR

National Park Service

[NPS-WASO-NRNHL-14338; PPWOCRADI0, PCU00RP14.R50000]

National Register of Historic Places; Notification of Pending Nominations and Related Actions

Nominations for the following properties being considered for listing or related actions in the National Register were received by the National Park Service before October 19, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by November 29, 2013. Before including your address, phone number, email address, or other personal identifying information in your comment, you should be aware that your entire comment—including your personal identifying information—may be made publicly available at any time. While you can ask us in your comment to withhold your personal identifying information from public review, we cannot guarantee that we will be able to do so.

Dated: October 25, 2013.
J. Paul Loether,
Chief, National Register of Historic Places/National Historic Landmarks Program.

CALIFORNIA

Los Angeles County

House at 1111 North Los Robles Avenue, (Residential Architecture of Pasadena: Influence of the Arts and Crafts Movement MPS) 1111 N. Los Robles Ave., Pasadena, 13000868

House at 1121 North Los Robles Avenue, (Residential Architecture of Pasadena: Influence of the Arts and Crafts Movement MPS) 1121-1123 N. Los Robles Ave., Pasadena, 13000869

COLORADO

El Paso County

Lindsey—Johnson—Vanderhoof House, 1130 N. Cascade Ave., Colorado Springs, 13000870

Garfield County

Nunns, John Herbert, House, 311 N. 7th St., Silt, 13000871

Morgan County

Antelope Springs Methodist Episcopal Church, Address Restricted, Snyder, 13000872

Phillips County

Hargreaves Homestead Rural Historic Landscape, US 385 between Cty. Rds. 10 & 12, Holyoke, 13000873

Millage Farm Rural Historic Landscape District, Cty. Rd. 18 between Cty. Rd. 37 & US 385, Holyoke, 13000874

FLORIDA

Collier County

Old Collier County Courthouse, 102 Copeland Ave. N., Everglades City, 13000875

GEORGIA

Fulton County

Capitol View Manor Historic District, Roughly bounded by Norfolk Southern RR, Hillside Dr. SW., I-75, Deckner Ave. SW. & Metropolitan Pkwy. SW., Atlanta, 13000876

Glynn County

Windsor Park Historic District, Bounded by Lanier Blvd., Walnut Ave., Gloucester & Magnolia Sts., Brunswick, 13000877

KANSAS

Gove County

Benson Culvert, (Masonry Arch Bridges of Kansas TR) 6 mi. S. & 9 mi. W. of Gove, Gove, 13000878

Jenkins Culvert, (Masonry Arch Bridges of Kansas TR) 6 mi. S. & 11.3 mi. W. of Gove, Gove, 13000879

Johnson County

Harmon Park Swale, (Santa Fe Trail MPS) 7700 Mission Rd., Prairie Village, 13000880

Sedgwick County

Linwood Place Historic District, (Residential Resources of Wichita, Sedgwick County, Kansas 1870-1957 MPS) Roughly S. Hydraulic, S. Kansas, S. Minneapolis, & S. Minnesota Aves., Stafford Ct., E. Hodson St., Wichita, 13000881

MINNESOTA

Crow Wing County

Garrison Concourse, (Federal Relief Construction in Minnesota MPS) Jct. of MN 169 & MN 18, Garrison, 13000882

Watonwan County

West Bridge, Adj. to Cty. Rd. 116 over Watonwan R., Madelia, 13000883

Winona County

Model School Building and College Hall of the Winona Normal School, 416 Washington & 151 W. Sanborn Sts., Winona, 13000884

MISSOURI

Jackson County

St. Regis Hotel, 1400-1402 E. Linwood Blvd., Kansas City, 13000885

NORTH DAKOTA

Bottineau County

Lesje Norwegian Evangelical Church, 519 107th St. NW., Roth, 13000886

RHODE ISLAND

Bristol County

Allen—West House, 153 George St., Barrington, 13000887

TEXAS

Fayette County

Bedstead Truss Bridge, (Historic Bridges of Texas MPS) .1 mi. NW. of jct. of Hillje & Kallus Sts., Schulenburg, 13000888

VIRGINIA

Franklin County

Ferrum College Historic District, 215 Ferrum Mountain Rd., Ferrum, 13000889

Powhatan County

Fighting Creek Plantation, 1811 Mill Quarter Rd., Powhatan, 13000890

Richmond Independent City, Chesapeake Warehouses, The, (Tobacco Warehouses in Richmond, Virginia, 1874-1963 MPS) 1100 Dinwiddie Ave., Richmond, 13000891

WYOMING

Carbon County

Powder Wash Archeological District, Address Restricted, Baggs, 13000892

A request for removal has been made for the following resource:

TEXAS

El Paso County

1800's Mexican Consulate, 612 E. San Antonio St., El Paso, 75001969

[FR Doc. 2013-27188 Filed 11-13-13; 8:45 am]

BILLING CODE 4312-51-P